DEPARTMENT OF TRANSPORTATION

Surface Transportation Board

[STB Finance Docket No. 34037]

General Railway Corporation d/b/a Iowa Northwestern Railroad Corporation—Operation Exemption—Line of Dickinson Osceola Railroad Association

General Railway Corporation d/b/a Iowa Northwestern Railroad Corporation (GRC), a noncarrier, has filed a notice of exemption under 49 CFR 1150.31 to operate approximately 37.21 miles of rail line currently owned by Dickinson Osceola Railroad Association (DORA). The rail line to be operated extends between milepost 79.34, at a point west of Superior, IA, and the end of the line at approximately milepost 116.55, a point west of Allendorf, IA, in Dickinson and Osceola Counties, IA. GRC states that, on April 2, 2001, an agreement was reached between it and DORA, wherein DORA designated GRC as operator of the line. GRC further states that ownership of the line is expected to be transferred to GRC from DORA in the near future. GRC certifies that its projected revenues will not exceed those that would qualify it as a Class III rail carrier and its revenues are not projected to exceed $5 million.¹

¹ See Dickinson Osceola Railroad Association—Acquisition and Operation Exemption—Union Pacific Railroad Company, STB Finance Docket No. 34008 (STB served Mar. 5, 2001).

The transaction was scheduled to be consummated on or shortly after May 2, 2001 (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 34037, must be filed with the Surface Transportation Board, Office of the Secretary, Case Control Unit, 1925 K Street, NW., Washington, DC 20423-0001. In addition, one copy of each pleading must be served on John Larkin, General Railway Corporation, 4814 Douglas St., Omaha, NE 68132.

Board decisions and notices are available on our website at www.stb.dot.gov.

Decided: May 4, 2001.
By the Board, David M. Konschnik, Director, Office of Proceedings.
Vernon A. Williams,
Secretary.

[FR Doc. 01-11825 Filed 5-10-01; 8:45 am]

BILLING CODE 4915-00-P